DEPARTMENT OF THE INTERIOR

Bureau of Land Management

[LLCO-923000.L1440000.ET0000; COC 028254]

Public Land Order No. 7934; Partial Revocation of Four Secretarial Orders for the Grand Valley Reclamation Project and Opening Order; Colorado

AGENCY: Bureau of Land Management, Interior.

ACTION: Public Land Order.

SUMMARY: This Order partially revokes four withdrawals created by Secretarial Orders dated July 2, 1902, August 26, 1902, February 28, 1908, and July 25, 1908, issued pursuant to the Reclamation Act of June 17, 1902, Section 3, to support the Bureau of Reclamation's (BOR's) Grand Valley Reclamation Project. The BOR has determined that 31.10 acres of the withdrawn land are no longer needed for reclamation purposes and has asked that the withdrawals be partially revoked as to these acres. This Order also opens these 31.10 acres to appropriation under the public land laws, subject to valid existing rights. The land has been and will remain open to mineral leasing and will remain closed to location and entry under the United States mining laws.

DATES: This Public Land Order takes effect on January 9, 2024.

FOR FURTHER INFORMATION CONTACT: Jennifer Jardine, BLM, Colorado State Office, at 970-385-1224, email at jjardine@blm.gov, or write to Branch of Lands and Realty, P.O. Box 151029, Lakewood, Colorado 80215-7093. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The BOR requested a partial withdrawal revocation and opening of 31.10 acres of land originally withdrawn in support of the Grand Valley Reclamation Project created by four Secretarial Orders dated July 2, 1902, August 26, 1902, February 28, 1908, and July 25, 1908. The Secretarial Orders classified the land for potential irrigation project purposes. The BOR has determined that the land is no longer needed for reclamation purposes. The revocation of the withdrawal as to these 31.10 acres would allow the land to be conveyed out of Federal ownership in a proposed land sale. Any land not conveyed will be restored to the administration of the Bureau of Land Management.

Order

By virtue of the authority vested in the Secretary of the Interior by Section 204 of the Federal Land Policy and Management Act of 1976, 43 U.S.C. 1714, it is ordered as follows:

1. The withdrawals created by Secretarial Orders dated July 2, 1902, August 26, 1902, February 28, 1908, and July 25, 1908, which withdrew public land for use by the Bureau of Reclamation for the Grand Valley Reclamation Project, are hereby partially revoked as to the following described land:

A parcel of land situated in the southwest quarter (SW¼) of the northwest quarter (NW¼) of Section 2, Township 1 South, Range 1 East, Ute Principal Meridian, Mesa County, Colorado, being the results of a survey of an irregular bounded portion of land and being more particularly described as follows:

Commencing at the ¼ section corner of sections 2 and 3, marked with a 2½ inch diameter brass disk with illegible marks;

Thence, North 00°00′03″ East, on the line between sections 2 and 3, identical with the right-of-way center line of a Mesa County Road, a distance of 567.65 feet to the point of beginning of the herein described parcel;

Thence, North 00°00′03″ East, continuing on the section line, identical with the right-of-way line of a Mesa County Road, a distance of 735.03 feet to the north 1/16 section corner of sections 2 and 3, marked with a 2½ inch diameter plastic pipe with cap marked T1S N1/16 S3 S2 R1E LS18467 1984;

Thence, South 89°59′55′ East, on the east and west center line of the north half (N½) of section 2, a distance of 1313.84 feet to the northwest 1/16 section corner of section 2, marked with a 2-inch diameter plastic pipe with cap marked T.1S. NW1/16 S2 R.1E. 18467 1987;

Thence, South 00°07′42″ East, on the north and south center line of the northwest quarter (NW¼) of section 2, a distance of 724.06 feet to a non-tangential point of curvature to the left, concave southeasterly;

Thence, with said curve through a central (delta) angle of 89°14′37″, having a radius of 169.74 feet, an arc distance of 264.38 feet; the long chord bears South 24°05′46″ West, a distance of 238.46 feet to the point of tangency;

Thence, South 20°31′31″ East, a distance of 86.84 feet to a point of curvature to the right, concave northwesterly;

Thence, with said curve through a central (delta) angle of 105°49′07″, having a radius of 76.15 feet, an arc distance of 140.64 feet; the long chord bears South 32°22′55″ West, a distance of 121.49 feet to the point of tangency;

Thence, South 85°17′24″ West, a distance of 511.91 feet to a point of curvature to the right, concave northeasterly;

Thence, with said curve through a central (delta) angle of 49°51′04″, having a radius of 231.96 feet, an arc distance of 201.82 feet; the long chord bears North 69°47′02″ West, a distance of 195.52 feet to the point of tangency;

Thence, North 44°51′28″ West, a distance of 101.87 feet;

Thence, North 53°50′16″ West, a distance of 200.63 feet;

Thence, North 55°43′04″ West, a distance of 309.84 feet to the point of beginning.

Basis of Bearings: North 00°00′03″ East, being the bearing from said ¼ section corner of sections 2 and 3 to said north 1/16 section corner of sections 2 and 3.

Meaning and intending to revoke the withdrawal on that portion of the southwest quarter (SW¼) of the northwest quarter (NW¼) of section 2 lying northly of said irregular boundary.

The area described contains 31.10 acres in Mesa County.

2. At 8 a.m. Mountain Time (MT) on January 9, 2024, the land described above will open to the operation of the public land laws, subject to valid existing rights, the provisions of existing withdrawals, other segregations of record, and the requirements of applicable law. All valid applications received at or prior to 8 a.m. MT on January 9, 2024, shall be considered as simultaneously filed at that time. Those received thereafter shall be considered in the order of filing. Appropriation of any of the land referenced in this PLO prior to the date and time of revocation and opening remain unauthorized. The land will remain closed to location and entry under the United States mining laws until such time as the land is conveyed out of Federal control or an opening order is issued pursuant to 43 CFR 2091.6.

(Authority: 43 U.S.C. 1714)

Robert T. Anderson,
Solicitor.

[FR Doc. 2024-00266 Filed 1-8-24; 8:45 am]

BILLING CODE 4322-90-P